DEPARTMENT OF TRANSPORTATION

Federal Railroad Administration

[Docket Number FRA-2000-7137]

Petition for Waiver of Compliance

Under part 211 of title 49 Code of Federal Regulations (CFR), this document provides the public notice that on February 10, 2021, San Diego Trolley Incorporated (SDTI) submitted a supplemental petition to the Federal Railroad Administration (FRA) for additional waivers of compliance from certain provisions of the Federal railroad safety regulations contained at 49 CFR parts 270 and 243. FRA assigned the petition Docket Number FRA-2000-7137.

In its petition dated December 21, 2020, SDTI seeks a five-year extension of its existing waiver with certain modifications. The existing waiver covers several sections of the Federal railroad safety regulations and applies to certain portions of SDTI's rail fixed guideway urban transit operations that employ temporal separation to safely share track with the general railroad system's San Diego & Imperial Valley Railroad. Contiguous to the shared trackage are portions with limited connections to the general railroad system, which include a small shared corridor with BNSF Railway and Coaster commuter train service. Coaster also shares a storage yard with SDTI.

In SDTI's supplemental request, dated February 10, 2021, SDTI seeks additional relief from 49 CFR part 270, System Safety Program, and 49 CFR part 243, Training, Qualification, and Oversight for Safety-Related Railroad Employees. SDTI states that the foundation of SDTI's safety program is based on alternative regulations under 49 CFR parts 673 and 674, which are equivalent to FRA's requirements. SDTI explains it requests a waiver to prevent duplicative and redundant requirements.

A copy of the petition, as well as any written communications concerning the petition, is available for review online at www.regulations.gov.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation (DOT), 1200 New Jersey Ave. SE, W12-140, Washington, DC 20590.

• Hand Delivery: 1200 New Jersey Ave. SE, Room W12-140, Washington, DC 20590, between 9 a.m. and 5 p.m., Monday through Friday, except Federal holidays.

Communications received by April 8, 2021 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also http://www.regulations.gov/privacyNotice for the privacy notice of regulations.gov.

Issued in Washington, DC.
John Karl Alexy,
Associate Administrator for Railroad Safety, Chief Safety Officer.

[FR Doc. 2021-03485 Filed 2-19-21; 8:45 am]

BILLING CODE 4910-06-P